DEPARTMENT OF THE INTERIOR

Fish and Wildlife Service

[FWS-R2-ES-2019-N174; FXES11140200000F2-201-FF02ENEH00]

Draft Environmental Assessment and Habitat Conservation Plan for the Endangered American Burying Beetle; City of Oklahoma City's Second Atoka Pipeline Project, in Six Oklahoma Counties

AGENCY: Fish and Wildlife Service, Interior.

ACTION: Notice of availability; request for public comments.

SUMMARY: We, the U.S. Fish and Wildlife Service (Service), announce via a Federal Register notice the availability of a draft environmental assessment (dEA) under the National Environmental Policy Act, and habitat conservation plan (HCP) for construction of a public water supply pipeline, the Second Atoka Pipeline Project, in six Oklahoma counties. Under the Endangered Species Act, the City of Oklahoma City and the Oklahoma City Water Utilities Trust (applicants) applied for an incidental take permit (ITP) to cover incidental take of the American burying beetle (ABB) from activities associated with construction of the pipeline project. The applicants have proposed an HCP that would be implemented to address project impacts on the ABB. The dEA evaluates the impacts of, and alternatives to, implementation of the proposed HCP. We seek public comment on the dEA and the requested Service approval of the HCP and ITP.

DATES: To ensure consideration, written comments must be received or postmarked by October 13, 2020. Any comments we receive after the closing date may not be considered in final decisions on the Service's action.

ADDRESSES: Accessing Documents:

Internet: DEA and HCP: You may obtain electronic copies of these documents from the Service's website at https://www.fws.gov/southwest/es/oklahoma/

U.S. Mail: You may obtain the documents at the following addresses. In your request for documents, please reference the Oklahoma City draft EA/HCP.

DEA and HCP: A limited number of CD-ROM and printed copies of the dEA and HCP are available, by request, from Ms. Jonna Polk, Field Supervisor, Oklahoma Ecological Services Field Office, U.S. Fish and Wildlife Service, 9014 E. 21st St., Tulsa, OK 74129; telephone 918-581-7458; facsimile 918-581-7467.

ITP application: The ITP application is available by mail from the Regional Director, U.S. Fish and Wildlife Service, P. O. Box 1306, Room 6034, Albuquerque, NM 87103.

Submitting Comments: Regarding any of the documents available for review, you may submit written comments by one of the following methods. In your comments, please reference the Oklahoma City draft EA/HCP.

Email: OKES_NEPA@fws.gov.

Facsimile: 918-581-7467, Attn: Oklahoma City HCP EA.

U.S. Mail: Field Supervisor, Oklahoma Ecological Services Field Office, U.S. Fish and Wildlife Service, 9014 E. 21st St., Tulsa, OK 74129.

FOR FURTHER INFORMATION CONTACT: Jonna Polk, Field Supervisor, by U.S. mail at the Oklahoma Ecological Services Field Office (address above), or by phone at 918-581-7458. If you use a telecommunications device for the deaf (TDD), please call the Federal Relay Service at 800-877-8339.

SUPPLEMENTARY INFORMATION: The City of Oklahoma City and the Oklahoma City Water Utilities Trust (applicants) have applied to the U.S. Fish and Wildlife Service (Service) for an incidental take permit (ITP) under section 10(a)(1)(B) of the Endangered Species Act of 1973, as amended (ESA; 16 U.S.C. 1531 et seq.). The requested ITP, which would be in effect for a period of 8 years, if granted, would authorize incidental take of the federally endangered American burying beetle (ABB; Nicrophorus americanus) during otherwise lawful activities associated with construction of a public water supply pipeline, the Second Atoka Pipeline Project. The project extends in a largely straight course from Atoka Lake to Lake Stanley Draper and passes through Atoka, Cleveland, Coal, Pontotoc, Pottawatomie, and Seminole Counties, Oklahoma. The entire project is approximately 100 miles in length, of which 78.4 miles would occur within the known range of the ABB. Activities potentially causing take include site preparation; construction of the pipeline, pump stations, and other ancillary facilities; use of temporary work areas; construction of pipe stockpile sites and contractor yards; construction and maintenance of access roads; removal of surge facilities; post-construction restoration activities; and hydrostatic testing of the installed pipeline. The applicants have proposed a habitat conservation plan (HCP) that would be implemented to address project impacts to the ABB.

We are notifying the public of the applicant's proposal of an HCP and request to the Service for an ITP to cover incidental take of the ABB associated with construction of the Second Atoka Pipeline Project. In addition, we are notifying the public of the Service's preparation of a draft environmental assessment (EA) regarding impacts of the requested action or feasible alternatives, of an opportunity for public comment on our action, and of our intention to finalize the EA after consideration of public comment.

Public Availability of Comments

Written comments we receive become part of the public record associated with this action. Before including your address, phone number, email address, or other personal identifying information in your comment, you should be aware that the entire comment—including your personal identifying information—may be made publicly available at any time. While you can ask us in your comment to withhold your personal identifying information from public review, we cannot guarantee that we will be able to do so.

Comments and materials we receive, as well as supporting documentation used in preparing the EA, will be available for public inspection, by appointment, during normal business hours at the Service's Oklahoma Ecological Services Field Office in Tulsa, Oklahoma (see ADDRESSES section).

Authority

We publish this notice in compliance with the National Environmental Policy Act of 1969, as amended (NEPA; 42 U.S.C. 4321 et seq.), and its implementing regulations (40 CFR parts 1500-1508), and section 10(c) of the Endangered Species Act of 1973, as amended (ESA; 16 U.S.C. 1531 et seq.) and its implementing regulations (50 CFR 17.22 and 17.32).

Amy Lueders,
Regional Director, Southwest Region, Albuquerque, New Mexico.

[FR Doc. 2020-19934 Filed 9-9-20; 8:45 am]

BILLING CODE 4333-15-P